NUCLEAR REGULATORY COMMISSION

[NRC-2021-0001]

Sunshine Act Meetings

TIME AND DATE: Weeks of February 15, 22, March 1, 8, 15, 22, 29, 2021.

PLACE: Commissioners' Conference Room, 11555 Rockville Pike, Rockville, Maryland.

STATUS: Public.

Week of February 15, 2021

Thursday, February 18, 2021

9:55 a.m. Affirmation Session (Public Meeting) (Tentative)

a. Holtec International (HI-STORE Consolidated Interim Storage Facility), Sierra Club Appeal of LBP-20-6 (Tentative)

b. DTE Electric Co. (Fermi 2), Appeal of LBP-20-7 (Denial of Hearing Request Related to Spent Fuel Pool License Amendment) (Tentative)

(Contact: Wesley Held: 301-287-3591)

Additional Information: Due to COVID-19, there will be no physical public attendance. The public is invited to attend the Commission's meeting live in one of two ways; via webcast at the Web address— https://video.nrc.gov/ or via teleconference. Details for joining the teleconference in listen only mode may be found at https://www.nrc.gov/pmns/mtg.

10:00 a.m. Briefing on Equal Employment Opportunity, Affirmative Employment, and Small Business (Public Meeting)

(Contact: Nadim Khan: 301-415-1119)

Additional Information: Due to COVID-19, there will be no physical public attendance. The public is invited to attend the Commission's meeting live in one of two ways; via webcast at the Web address— https://video.nrc.gov/ or via teleconference. Details for joining the teleconference in listen only mode may be found at https://www.nrc.gov/pmns/mtg.

Week of February 22, 2021—Tentative

There are no meetings scheduled for the week of February 22, 2021.

Week of March 1, 2021—Tentative

There are no meetings scheduled for the week of March 1, 2021.

Week of March 8, 2021—Tentative

There are no meetings scheduled for the week of March 8, 2021.

Week of March 15, 2021—Tentative

There are no meetings scheduled for the week of March 15, 2021.

Week of March 22, 2021—Tentative

There are no meetings scheduled for the week of March 22, 2021.

Week of March 29, 2021—Tentative

There are no meetings scheduled for the week of March 29, 2021.

CONTACT PERSON FOR MORE INFORMATION: For more information or to verify the status of meetings, contact Wesley Held at 301-287-3591 or via email at Wesley.Held@nrc.gov. The schedule for Commission meetings is subject to change on short notice.

The NRC Commission Meeting Schedule can be found on the internet at:

https://www.nrc.gov/public-involve/public-meetings/schedule.html.

The NRC provides reasonable accommodation to individuals with disabilities where appropriate. If you need a reasonable accommodation to participate in these public meetings or need this meeting notice or the transcript or other information from the public meetings in another format (e.g., braille, large print), please notify Anne Silk, NRC Disability Program Specialist, at 301-287-0745, by videophone at 240-428-3217, or by email at Anne.Silk@nrc.gov. Determinations on requests for reasonable accommodation will be made on a case-by-case basis.

Members of the public may request to receive this information electronically. If you would like to be added to the distribution, please contact the Nuclear Regulatory Commission, Office of the Secretary, Washington, DC 20555, at 301-415-1969, or by email at Tyesha.Bush@nrc.gov.

The NRC is holding the meetings under the authority of the Government in the Sunshine Act, 5 U.S.C. 552b.

Dated: February 17, 2021.
For the Nuclear Regulatory Commission.
Denise L. McGovern,
Policy Coordinator, Office of the Secretary.

[FR Doc. 2021-03529 Filed 2-18-21; 11:15 am]

BILLING CODE 7590-01-P